DEPARTMENT OF THE INTERIOR

Bureau of Indian Affairs

Final Environmental Impact Statement for the Ione Band of Miwok Indians 228.04-Acre Fee-to-Trust Land Transfer and Casino Project, Amador County, California

AGENCY: Bureau of Indian Affairs, Interior.

ACTION: Notice of availability.

SUMMARY: This notice advises the public that the Bureau of Indian Affairs (BIA) as lead agency, with the National Indian Gaming Commission, the U.S. Environmental Protection Agency (USEPA), and the City of Plymouth as cooperating agencies, intends to file a Final Environmental Impact Statement (FEIS) with the USEPA for the approval of a 228.04-acre trust acquisition and casino project in the City of Plymouth and unincorporated Amador County, California, and that the FEIS is now available for public review. The purpose of the proposed action is to establish a land base and help provide for the economic development of the Tribe.

DATES: The Record of Decision on the proposed action will be issued on or after September 13, 2010. Comments on the FEIS will be accepted until September 13, 2010.

ADDRESSES: Mail or hand carry written comments to Dale Risling, Acting Regional Director, Bureau of Indian Affairs, Pacific Region, 2800 Cottage Way, Sacramento, CA 95825. See the SUPPLEMENTARY INFORMATION section of this notice for directions on submitting comments.

FOR FURTHER INFORMATION CONTACT: John Rydzik, (916) 978-6051.

SUPPLEMENTARY INFORMATION: The Tribe has requested that the BIA take into trust 228.04 acres of land, on which the Tribe proposes to construct a casino, hotel, parking areas and other facilities. The proposed project is located partially within the City of Plymouth and partially within unincorporated Amador County, just off State Route 49.

The proposed project includes the development of a 120,000 square-foot gaming facility, a 166,500 square-foot hotel and a 30,000 square-foot event/conference center on the 228.04-acre site. The gaming facility would include a casino floor, food and beverage areas (consisting of a buffet, specialty restaurant, bar, and coffee bar), meeting space, guest support services, offices, and security area. The five-story hotel facility would have 250 guest rooms and the event/conference center would have seating for 1,200 people. Access to the casino would be provided from State Route 49.

Project alternatives considered in the FEIS include: (A) Proposed project; (B) a reduced casino with hotel alternative; (C) a reduced casino alternative; (D) a retail development alternative; and (E) no action. Alternative A has been selected as the Preferred Alternative, as discussed in the FEIS. The alternatives are intended to assist the review of the issues presented, but the Preferred Alternative does not necessarily reflect what the final decision will be, because a complete evaluation of the criteria listed in 25 CFR part 151 may lead to a final decision that selects an alternative other than the Preferred Alternative, including no action, or that selects a variant of the Preferred or another of the alternatives analyzed in the FEIS.

Environmental issues addressed in the FEIS include land resources, water resources, air quality, biological resources, cultural and paleontological resources, socioeconomic conditions, environmental justice, transportation and circulation, land use, public services, noise, hazardous materials, visual resources, cumulative effects, indirect effects, and mitigation measures.

The BIA has afforded other government agencies and the public extensive opportunity to participate in the preparation of this EIS. The BIA published a Notice of Intent (NOI) to prepare the EIS for the proposed action in the Federal Register on November 7, 2003 (67 FR 63127). The BIA held a public scoping meeting on November 19, 2003 at the Amador County Fairgrounds in Plymouth. On January 20, 2004, the BIA published a supplemental NOI in the Federal Register to announce an additional public scoping hearing that was held on February 4, 2004, at the Amador County Fairgrounds in Plymouth (69 FR 2728). A Notice of Availability for the Draft EIS (DEIS) was published in the Federal Register on April 18, 2008 (73 FR 21150) and in the Amador Ledger Dispatch on April 22, and May 20, 2008. The DEIS was available for public comment from April 18 to July 2, 2008. The BIA held a public hearing on the DEIS on May 21, 2008, at the Amador County Fairgrounds in Plymouth.

Directions for Submitting Comments

Please include your name, return address, and the caption, “FEIS Comments, Ione Band of Miwok Indians, Land Transfer and Casino Project,” on the first page of your written comments.

Public Availability of the FEIS

The FEIS will be available for review at the Amador County Library, 530 Sutter Street, Jackson, CA and the Plymouth City Hall, 9426 Main Street, Plymouth, CA. General information for the Amador County Library can be obtained by calling (209) 223-6400. For information on Plymouth City Hall, please call (209) 245-6941. The FEIS is also available on the following Web site: http://www.ioneeis.com.

To obtain a compact disk copy of the FEIS, please provide your name and address by voicemail to the person listed in the FOR FURTHER INFORMATION CONTACT section of this notice or in writing to John Rydzik at the address listed in the ADDRESSES section of this notice. Note, however, individual paper copies of the FEIS will be provided upon payment of applicable printing expenses by the requestor for the number of copies requested.

Public Comment Availability

Comments, including names and addresses of respondents, will be available for public review at the mailing address shown in the ADDRESSES section, during regular business hours, 8 a.m. to 4:30 p.m., Monday through Friday, except holidays. Before including your address, phone number, e-mail address, or other personal identifying information in your comment, you should be aware that your entire comment—including your personal identifying information—may be made publicly available at any time. While you can ask us in your comment to withhold your personal identifying information from public review, we cannot guarantee that we will be able to do so.

Authority

This notice is published in accordance with section 1503.1 of the CEQ Regulations (40 CFR parts 1500 through 1508) implementing the procedural requirements of NEPA, as amended (42 U.S.C. 4371 et seq.), and the Department of the Interior Manual (516 DM 1-6), and is in the exercise of authority delegated to the Assistant Secretary—Indian Affairs by 209 DM 8.

Dated: July 20, 2010.
Donald Laverdure,
Deputy Assistant Secretary—Indian Affairs.

[FR Doc. 2010-19906 Filed 8-12-10; 8:45 am]

BILLING CODE 4310-W7-P